DEPARTMENT OF COMMERCE

International Trade Administration

[A-583-853]

Certain Crystalline Silicon Photovoltaic Products From Taiwan: Final Results of Antidumping Duty Administrative Review and Final Determination of No Shipments; 2018-2019

AGENCY: Enforcement and Compliance, International Trade Administration, Department of Commerce.

SUMMARY: The Department of Commerce (Commerce) finds that producers or exporters of certain crystalline silicon photovoltaic products (solar products) from Taiwan sold subject merchandise at less than normal value in the United States during the period of review (POR), February 1, 2018 through January 31, 2019.

DATES: Applicable March 24, 2020.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

This review covers 36 producers or exporters. Commerce selected two companies, Motech Industries Inc. (Motech), and the collapsed entity that combined Sino-American Silicon Products Inc., Solartech Energy Corp, and Sunshine PV Corporation (collectively SAS-SEC), for individual examination. The producers or exporters not selected for individual examination are listed in the “Final Results of the Review” section of this notice.

On December 26, 2019, Commerce published the Preliminary Results.¹ On January 21, 2020 and January 27, 2020, we received case briefs from Win Precision Technology Co., Ltd. (Win Win) ² and Peimar Industries Srl., (Peimar) ³ respectively. We received no rebuttal briefs.

¹ See Certain Crystalline Silicon Photovoltaic Products From Taiwan: Preliminary Results of Antidumping Duty Administrative Review and Preliminary Determination of No Shipments; 2018-2019, 84 FR 70943 (December 26, 2019) (Preliminary Results).

² See Win Win's Letter, “Certain Crystalline Silicon Photovoltaic Products from Taiwan: Case Brief,” dated January 21, 2020.

³ See Peimar's Letter, “Certain Crystalline Silicon Photovoltaic Products from Taiwan: Case Brief,” dated January 27, 2020.

Scope of the Order

The merchandise covered by this order is crystalline silicon photovoltaic cells, and modules, laminates and/or panels consisting of crystalline silicon photovoltaic cells, whether or not partially or fully assembled into other products, including building integrated materials. Merchandise covered by this order is currently classified in the Harmonized Tariff Schedule of the United States (HTSUS) under subheadings 8501.61.0000, 8507.20.8030, 8507.20.8040, 8507.20.8060, 8507.20.8090, 8541.40.6020, 8541.40.6030 and 8501.31.8000. These HTSUS subheadings are provided for convenience and customs purposes; the written description of the scope is dispositive. For a complete description of the scope of the order, see Appendix I of this notice.

Analysis of Comments Received

All issues raised in the case and rebuttal briefs are listed in Appendix II to this notice and addressed in the IDM.⁴ Interested parties can find a complete discussion of these issues and the corresponding recommendations in this public memorandum, which is on file electronically via Enforcement and Compliance's Antidumping and Countervailing Duty Centralized Electronic Service System (ACCESS). ACCESS is available to registered users at http://access.trade.gov, and ACCESS is also available to all interested parties in the Central Records Unit, Room B8024, of the main Commerce building. In addition, a complete version of the IDM can be accessed directly at http://enforcement.trade.gov/frn/index.html. The signed IDM and the electronic version of the IDM are identical in content.

⁴ See Memorandum, “Issues and Decision Memorandum for the Final Results of the 2018-2019 Administrative Review of the Antidumping Duty Order on Certain Crystalline Silicon Photovoltaic Products from Taiwan” (IDM), dated concurrently with, and hereby adopted by, this notice.

Changes Since the Preliminary Results

Based on a review of the record and comments received from interested parties regarding our Preliminary Results, we made no changes to the weighted-average dumping margin for SAS-SEC or any other respondent presented in the Preliminary Results. However, we: (1) Corrected the name of Win Win in the rate table presented in the Preliminary Results; ⁵ and (2) added certain company-specific third-country case numbers presented in draft U.S. Customs and Border Protection (CBP) instructions that we released for comment.⁶

⁵ See IDM at Comment 1.

⁶ See IDM at Comment 2.

Determination of No Shipments

As noted in the Preliminary Results, we received no-shipment claims from seven companies, and we preliminarily determined that these seven companies had no shipments during the POR.⁷ We received no comments from interested parties with respect to these claims. Therefore, because record evidence indicates that these seven companies had no entries of subject merchandise to the United States during the POR, we continue to find that they had no shipments during the POR. Consistent with our practice, we will issue appropriate instructions to CBP based on our final results.

⁷ See Preliminary Results, 84 FR at 70944. These companies are AU Optronics Corporation, Canadian Solar Inc., Canadian Solar International Limited, Canadian Solar Manufacturing (Changshu), Inc., Canadian Solar Manufacturing (Luoyang), Inc., Motech Industries Ltd., and Vina Solar Technology Co., Ltd.

Final Rates for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market-economy investigation, for guidance when calculating the rate for companies which were not selected for individual review in an administrative review. Under section 735(c)(5)(A) of the Act, the all-others rate is normally “an amount equal to the weighted average of the estimated weighted average dumping margins established for exporters and producers individually investigated, excluding any zero or de minimis margins, and any margins determined entirely {on the basis of facts available}.”

In this review, we have a calculated a weighted-average dumping margin for SAS-SEC that is not zero, de minimis, or determined entirely on the basis of facts available. Accordingly, Commerce assigns to the companies not individually examined the 2.57 percent weighted-average dumping margin calculated for SAS-SEC.

Final Results of the Review

We are assigning the following weighted-average dumping margins to the firms listed below for the period February 1, 2018 through January 31, 2019.

⁸ In the first administrative review of the order, Commerce collapsed Sino-American Silicon Products Inc. and Solartech Energy Corp. and treated the companies as a single entity for purposes of the proceeding. See Certain Crystalline Silicon Photovoltaic Products from Taiwan: Final Results of Antidumping Duty Administrative Review; 2014-2016, 82 FR 31555 (July 7, 2017). Because there were no relevant changes to the facts since that determination was made, we continue to find that these companies are part of a single entity for this administrative review. In the final results of the third administrative review of this proceeding, we included Sunshine PV Corporation in the SAS-SEC entity. See Certain Crystalline Silicon Photovoltaic Products From Taiwan: Final Results of Antidumping Duty Administrative Review and Final Determination of No Shipments; 2017-2018, 84 FR 39802 (August 12, 2019), and the accompanying Issues and Decision Memorandum at n.4.

Exporter/producer | Estimated weighted- average dumping margin (percent)
Sino-American Silicon Products Inc., Solartech Energy Corp. and Sunshine PV Corporation ⁸ | 2.57
Baoding Jiasheng Photovoltaic Technology Co. Ltd | 2.57
Baoding Tianwei Yingli New Energy Resources Co., Ltd | 2.57
Beijing Tianneng Yingli New Energy Resources Co. Ltd | 2.57
Boviet Solar Technology Co., Ltd | 2.57
Canadian Solar Solutions Inc | 2.57
EEPV Corp | 2.57
E-TON Solar Tech. Co., Ltd | 2.57
Gintech Energy Corporation | 2.57
Hainan Yingli New Energy Resources Co., Ltd | 2.57
Hengshui Yingli New Energy Resources Co., Ltd | 2.57
Inventec Energy Corporation | 2.57
Inventec Solar Energy Corporation | 2.57
KOOTATU Tech. Corp | 2.57
Kyocera Mexicana S.A. de C.V | 2.57
Lixian Yingli New Energy Resources Co., Ltd | 2.57
Lof Solar Corp | 2.57
Mega Sunergy Co., Ltd | 2.57
Ming Hwei Energy Co., Ltd | 2.57
Neo Solar Power Corporation | 2.57
Shenzhen Yingli New Energy Resources Co., Ltd | 2.57
Sunengine Corporation Ltd | 2.57
Sunrise Global Solar Energy | 2.57
Tianjin Yingli New Energy Resources Co., Ltd | 2.57
TSEC Corporation | 2.57
United Renewable Energy Co., Ltd | 2.57
Win Win Precision Technology Co., Ltd | 2.57
Yingli Energy (China) Co., Ltd | 2.57
Yingli Green Energy International Trading Company Limited | 2.57

Assessment Rates

Pursuant to section 751(a)(2)(C) of the Tariff Act of 1930, as amended (the Act), and 19 CFR 351.212(b)(1), Commerce has determined, and CBP shall assess, antidumping duties on all appropriate entries of subject merchandise in accordance with the final results of this review. Pursuant to 19 CFR 351.212(b)(1), we calculated importer-specific ad valorem duty assessment rates based on the ratio of the total amount of dumping calculated for the examined sales to the total entered value of those sales. Where either the respondent's weighted-average dumping margin is zero or de minimis within the meaning of 19 CFR 351.106(c)(1), or an importer-specific assessment rate is zero or de minimis, we will instruct CBP to liquidate the appropriate entries without regard to antidumping duties.

For the companies which were not selected for individual review, we will assign an assessment rate equal to SAS-SEC's dumping margin identified above. The final results of this review shall be the basis for the assessment of antidumping duties on entries of merchandise covered by the final results of this review and for future deposits of estimated duties, where applicable.⁹

⁹ See section 751(a)(2)(C) of the Act.

We intend to issue liquidation instructions to CBP 15 days after publication of the final results of this review.

Cash Deposit Requirements

The following cash deposit requirements will be effective for all shipments of the subject merchandise entered, or withdrawn from warehouse, for consumption on or after the publication date of the final results of this administrative review, as provided by section 751(a)(2)(C) of the Act: (1) The cash deposit rate for each specific company listed above will be equal to the weighted-average dumping margin that is established in the final results of this review, except if the rate is less than 0.50 percent and therefore de minimis within the meaning of 19 CFR 351.106(c)(1), in which case the cash deposit rate will be zero; (2) for previously investigated companies not listed above, including the companies which Commerce has determined had no shipments in these final results, the cash deposit rate will continue to be the company-specific rate published for the most recently completed segment of this proceeding in which the companies participated; (3) if the exporter is not a firm covered in this review, or the original less-than-fair-value (LTFV) investigation, but the manufacturer is, then the cash deposit rate will be the cash deposit rate established for the most recently completed segment for the producer of the subject merchandise; and (4) the cash deposit rate for all other producers or exporters will continue to be 19.50 percent, the all-others rate established in the LTFV investigation.¹⁰ These deposit requirements, when imposed, shall remain in effect until further notice.

¹⁰ See Certain Crystalline Silicon Photovoltaic Products From Taiwan: Final Determination of Sales at Less Than Fair Value, 79 FR 76966 (December 23, 2014).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act and 19 CFR 351.221(b)(5).

Dated: March 17, 2020.
Jeffrey I. Kessler,
Assistant Secretary for Enforcement and Compliance.

Appendix I

The merchandise covered by this order is crystalline silicon photovoltaic cells, and modules, laminates and/or panels consisting of crystalline silicon photovoltaic cells, whether or not partially or fully assembled into other products, including building integrated materials.

Subject merchandise includes crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Modules, laminates, and panels produced in a third-country from cells produced in Taiwan are covered by this order. However, modules, laminates, and panels produced in Taiwan from cells produced in a third-country are not covered by this order.

Excluded from the scope of this order are thin film photovoltaic products produced from amorphous silicon (a-Si), cadmium telluride (CdTe), or copper indium gallium selenide (CIGS). Also excluded from the scope of this order are crystalline silicon photovoltaic cells, not exceeding 10,000mm² in surface area, that are permanently integrated into a consumer good whose function is other than power generation and that consumes the electricity generated by the integrated crystalline silicon photovoltaic cells. Where more than one cell is permanently integrated into a consumer good, the surface area for purposes of this exclusion shall be the total combined surface area of all cells that are integrated into the consumer good.

Further, also excluded from the scope of this order are any products covered by the existing antidumping and countervailing duty orders on crystalline silicon photovoltaic cells, whether or not assembled into modules, from the People's Republic of China (PRC).¹¹ Also excluded from the scope of this order are modules, laminates, and panels produced in the PRC from crystalline silicon photovoltaic cells produced in Taiwan that are covered by an existing proceeding on such modules, laminates, and panels from the PRC.

¹¹ See Crystalline Silicon Photovoltaic Cells, Whether or Not Assembled Into Modules, from the People's Republic of China: Amended Final Determination of Sales at Less Than Fair Value, and Antidumping Duty Order, 77 FR 73018 (December 7, 2012); see also Crystalline Silicon Photovoltaic Cells, Whether or Not Assembled Into Modules, from the People's Republic of China: Countervailing Duty Order, 77 FR 73017 (December 7, 2012).

Merchandise covered by the order is currently classified in the Harmonized Tariff Schedule of the United States (“HTSUS”) under subheadings 8501.61.0000, 8507.20.8030, 8507.20.8040, 8507.20.8060, 8507.20.8090, 8541.40.6020, 8541.40.6030 and 8501.31.8000. These HTSUS subheadings are provided for convenience and customs purposes; the written description of the scope of the order is dispositive.

Appendix II

List of Topics Discussed in the Issues and Decision Memorandum

I. Summary

II. Background

III. Discussion of the Issues

Comment 1: Win Win Precision Technology Co., Ltd. Name Correction

Comment 2: Corrections for Third-Country Case Numbers for Several Companies

IV. Recommendation

[FR Doc. 2020-06110 Filed 3-23-20; 8:45 am]

BILLING CODE 3510-DS-P